DEPARTMENT OF THE INTERIOR

Fish and Wildlife Service

[FWS-R7-R-2015-N026; FXRS12650700000-134-FF07R06000]

Record of Decision for the Arctic National Wildlife Refuge Final Comprehensive Conservation Plan/Final Environmental Impact Statement; Fairbanks, Alaska

AGENCY: Fish and Wildlife Service, Interior.

ACTION: Notice of availability; Record of Decision.

SUMMARY: We, the U.S. Fish and Wildlife Service (Service), announce the availability of the Record of Decision (ROD) for the Arctic National Wildlife Refuge Final Comprehensive Conservation Plan (CCP) and Final Environmental Impact Statement (EIS). We prepared this ROD pursuant to the National Environmental Policy Act of 1969 (NEPA) and its implementing regulations. The Service is furnishing this notice to advise the public and other agencies of our decision and of availability of the ROD.

DATES: The ROD was signed on April 3, 2015.

ADDRESSES: You may view the ROD and final CCP/EIS by any of the following methods:

Web site: Download a copy of the document(s) at http://www.fws.gov/refuge/arctic/ccp.html.

Email: arcticrefugeccp@fws.gov; include “Arctic National Wildlife Refuge final CCP/EIS ROD” in the subject line of the message for an electronic copy.

Fax: Attn: Stephanie Brady, Project Team Leader, (907) 786-3901.

U.S. Mail: Stephanie Brady, Project Team Leader, U.S. Fish and Wildlife Service, 1011 East Tudor Rd., MS-231, Anchorage, AK 99503.

In-Person Viewing or Pickup: You may view or pick up a copy of the ROD and final CCP/EIS (on Compact Disc) during regular business hours at the address listed above.

FOR FURTHER INFORMATION CONTACT: Stephanie Brady, (907) 306-7448, or at one of the addresses above.

SUPPLEMENTARY INFORMATION: With this notice, we finalize the CCP/EIS process for Arctic National Wildlife Refuge (Refuge), Alaska. In accordance with National Environmental Policy Act (40 CFR 1506.6(b)) requirements, this notice announces the availability of the ROD for the final CCP/EIS for Arctic Refuge. The final CCP/EIS provides broad policy guidance and establishes management direction for Arctic Refuge for the next 15 years. For further information about our decision-making process, see our notice of availability of our revised comprehensive conservation plan and final environmental impact statement, which published in the Federal Register on January 27, 2015 (80 FR 4303).

The ROD documents our selection of Alternative E (the Preferred Alternative) as described in the Final Revised Conservation Plan and Environmental Impact Statement for Arctic Refuge. Alternative E reflects the intent to manage Arctic Refuge to achieve the mission of the National Wildlife Refuge System and meet the purposes for which the Refuge was established. Alternative E conserves the fish, wildlife, and habitats of Arctic Refuge and facilitates subsistence and recreation in settings that emphasize natural, unaltered landscapes. Alternative E also emphasizes natural processes across the Refuge. Large-scale changes to the landscape are not anticipated.

This decision recommends approximately 12.28 million existing acres of Arctic Refuge for Wilderness designation. This recommendation will remain in effect unless withdrawn or until revised or submitted to Congress. Only Congress can make the final decision to designate Wilderness. This ROD also recommends that four of the Refuge's rivers be included in the National Wild and Scenic Rivers System. Designation of a wild and scenic river requires an Act of Congress. The maps below show the proposed wilderness areas, and exclusions from the proposed wilderness areas, which are defined in greater detail in the Service's Wilderness Review, EIS Appendix H. The proposed additions to the National Wild and Scenic Rivers System are described in the Service Wild and Scenic River Review, EIS Appendix I.

BILLING CODE 4310-55-P

BILLING CODE 4310-55-C

Introduction

Under Section 303(2) of the Alaska National Interest Lands Conservation Act of 1980 (ANILCA), the purposes for which the Arctic Refuge was established and shall be managed include:

(i) To conserve fish and wildlife populations and habitats in their natural diversity including, but not limited to, the Porcupine caribou herd (including participation in coordinated ecological studies and management of this herd and the Western Arctic caribou herd), polar bears, grizzly bears, muskox, dall sheep, wolves, wolverines, snow geese, peregrine falcons and other migratory birds and arctic char and grayling;

(ii) to fulfill the international treaty obligations of the United States with respect to fish and wildlife and their habitats;

(iii) to provide, in a manner consistent with the purposes set forth in subparagraphs (i) and (ii), the opportunity for continued subsistence uses by local residents, and

(iv) to ensure, to the maximum extent practicable and in a manner consistent with the purposes set forth in paragraph (i), water quality and necessary water quantity within the refuge.

Section 304(g) of ANILCA directs the Secretary of the Interior to prepare and, from time to time, revise a plan for each refuge in Alaska. The Plan is based on an identification and description of resources of the Arctic Refuge, including fish and wildlife resources and wilderness values, and must:

(i) Designate areas within the refuge according to their respective resources and values;

(ii) specify the programs for conserving fish and wildlife and the programs relating to maintaining the identified values proposed to be implemented within each such area; and

(iii) specify the uses within each such area which may be compatible with the major purposes of the refuge.

The Plan must also set forth those opportunities which will be provided within the refuge for fish and wildlife-oriented recreation, ecological research, environmental education and interpretation of refuge resources and values, if such recreation, research, education, and interpretation is compatible with the purposes of the refuge.

This Plan revision process implements ANILCA; the National Wildlife Refuge System Administration Act of 1966, as amended by the National Wildlife Refuge System Improvement Act of 1997; the National Environmental Policy Act of 1969 (NEPA), as amended; other Federal laws, and the Service Planning Policy (602 FW 1-3). According to ANILCA, the National Wildlife Refuge System Improvement Act of 1997, NEPA, and Service planning policy, the Service must ensure adequate and effective interagency coordination and public participation during the planning process. Interested and affected parties such as State agencies, tribal governments, Native organizations, non-governmental organizations, and local and national residents who may be affected by decisions in the Plan must be provided meaningful opportunities to present their views.

The purpose of this planning process was to revise the Refuge's original Plan, which was approved and adopted in 1988. The 1988 Plan contained no goals or objectives and had outdated management direction. In the Refuge planning process, the Service identified and analyzed significant issues to objectively consider a wide range of approaches that could be taken to address each issue. Three significant planning issues were identified by the Service for consideration during revision of the Plan:

1. Should one or more areas of the Refuge be recommended for Wilderness designation?

2. Should additional wild and scenic rivers be recommended for inclusion in the National Wild and Scenic Rivers System?

3. How will the Refuge manage Kongakut River visitor use to protect resources and visitor experience?

The Revised Plan is designed to provide broad policy guidance and establishes management direction for Arctic Refuge for the next 15 years. It describes how the Service will conserve fish, wildlife, plants, and their habitats, while providing opportunities for subsistence and for wildlife-dependent recreational uses. The Revised Plan includes a vision statement for Refuge management; short/long-term goals and objectives to guide management activities on Refuge lands and waters; and a description of uses that are appropriate and compatible with the Refuge's purposes and the mission of the National Wildlife Refuge System. The Revised Plan is designed to be a dynamic, living document that will require monitoring and periodic reviews and updates.

The process of developing this Revised Plan has allowed the Service to:

Ensure that the purposes of the Refuge and the mission of the Refuge System are fulfilled;

Establish a long-term vision for the Refuge;

Establish management goals and objectives;

Define compatible uses;

Update management direction related to national and regional policies and guidelines used to implement Federal laws governing Refuge management;

Describe and maintain the resources and special values of Arctic Refuge;

Incorporate new scientific information on factors affecting Refuge resources as well as surrounding areas, including climate change;

Evaluate current Refuge management direction based on changing public use of the Refuge and its resources;

Ensure that opportunities are available for interested parties to participate in the development of management direction;

Provide a systematic process for making and documenting resource management decisions;

Establish broad management direction for Refuge programs and activities;

Provide continuity in Refuge management;

Provide additional guidance for budget requests; and

Provide additional guidance for planning work and evaluating accomplishments.

Alternatives Considered

Six alternatives were considered in detail in the Revised Plan and final EIS. Five of the six alternatives included the proposed goals and objectives and the revised management policies and guidelines described in Chapter 2 of the Revised Plan. The six alternatives considered three significant planning issues: Wilderness recommendations, wild and scenic river recommendations, and Kongakut River visitor use management.

Alternative A: Current Management (No Action)

Alternative A provides the baseline against which the other alternatives were compared. Under Alternative A, the Refuge would continue to be managed according to the direction included in the 1988 Plan, and the Refuge's proposed goals and objectives would not be adopted.

Wilderness: No new areas would be recommended for Wilderness designation.

Wild and Scenic Rivers: No new rivers would be recommended for inclusion in the Wild and Scenic Rivers System.

Kongakut River Visitor Use Management: Kongakut River visitor use would continue to be managed with the following practices:

Group size limits would be required for guided groups (7 hikers, 10 floaters).

There would be no group size limits for non-guided groups, although we recommend using the commercial limits of 7 hikers and 10 floaters.

Information on low-impact camping and other best practices would continue to be available on the Refuge Web site.

Commercial service providers would continue to have special use permits with occasional compliance checks by the Service.

Monitoring of physical and social conditions and visitor impacts would continue to occur occasionally.

Air operator permit holders would be required to land on non-vegetated surfaces and asked to follow all Federal Aviation Administration (FAA) advisories during flight operations.

The Service would prepare a Public Use Management Plan (as required by the 1988 Plan).

Alternative B

Alternative B would adopt the goals and objectives and the revised management policies and guidelines described in Chapter 2 of the Revised Plan.

Wilderness: Recommend the Brooks Range Wilderness Study Area to Congress for Wilderness designation.

Wild and Scenic Rivers: Recommend the Hulahula, Kongakut, and Marsh Fork Canning Rivers to Congress for inclusion into the National Wild and Scenic Rivers System.

Kongakut River Visitor Use Management: Under this alternative, and immediately upon Plan approval, contingent on funding and staff availability, we would proceed with two concurrent step-down plans: a Visitor-Use Management Plan (VUMP) and a Wilderness Stewardship Plan (WSP). In addition to the practices identified under Alternative A, we would implement interim measures:

Expand monitoring of degraded sites,

Develop new outreach materials with targeted messages,

Work with guides to reduce visitor volume,

Work with air operators to disperse flights over high-use areas,

Publish a schedule of when guides will be launching trips,

Increase enforcement of permit conditions and Refuge regulations, and

Set an interim cap on commercial recreation guides from present through 2016 or through completion of the VUMP/WSP, whichever comes first.

Alternative C

Alternative C would adopt the goals and objectives and the revised management policies and guidelines described in Chapter 2 of the Revised Plan.

Wilderness: Recommend the Coastal Plain Wilderness Study Area to Congress for Wilderness designation.

Wild and Scenic Rivers: Recommend the Atigun River to Congress for inclusion into the National Wild and Scenic Rivers System.

Kongakut River Visitor Use Management: Under this alternative, management would be the same as under Alternative B.

Alternative D

Alternative D would adopt the goals and objectives and the revised management policies and guidelines described in Chapter 2 of the Revised Plan.

Wilderness: Recommend the Brooks Range and Porcupine Plateau Wilderness Study Areas to Congress for Wilderness designation.

Wild and Scenic Rivers: Recommend the Atigun, Kongakut, and Marsh Fork Canning Rivers, and those portions of the Hulahula River managed by the Refuge, to Congress for inclusion into the National Wild and Scenic Rivers System.

Kongakut River Visitor Use Management: Under this alternative, management would be the same as Alternative B, except there would be no interim cap on commercial recreation guides.

Alternative E: Preferred Alternative

Alternative E would adopt the goals and objectives and the revised management policies and guidelines described in Chapter 2 of the Revised Plan.

Wilderness: Recommend the Brooks Range, Porcupine Plateau, and Coastal Plain Wilderness Study Areas to Congress for Wilderness designation.

Wild and Scenic Rivers: Recommend the Atigun, Hulahula, Kongakut, and Marsh Fork Canning Rivers to Congress for inclusion into the National Wild and Scenic Rivers System.

Kongakut River Visitor Use: Under this alternative, management would be the same as under Alternative D.

Alternative F

Alternative F would adopt the goals and objectives and the revised management policies and guidelines described in Chapter 2 of the Revised Plan.

Wilderness: No new areas would be recommended for Wilderness designation.

Wild and Scenic River: No new rivers would be recommended for inclusion into the Wild and Scenic Rivers System.

Kongakut River Visitor Use: Under this alternative, management would be the same as under Alternative D.

Factors We Considered in Decisionmaking

As explained further below, it is our decision to adopt Alternative E (the Preferred Alternative), as described in the final Revised CCP/EIS for Arctic Refuge. This decision includes the Service recommendation of approximately 12.28 million existing acres for Wilderness designation by Congress. This decision also recommends four of the Refuge's rivers be included in the National Wild and Scenic Rivers System. Designation of a Wilderness Area and Wild and Scenic Rivers requires an act of Congress.

Adoption of Alternative E reflects our decision that this alternative best meets the Service's purpose and need to manage Arctic Refuge to achieve the mission of the National Wildlife Refuge System and to meet the purposes for which the Refuge was established. This alternative conserves the fish, wildlife and habitats of Arctic Refuge and facilitates subsistence and recreation in settings that emphasize natural, unaltered landscapes and natural processes. Arctic Refuge encompasses a wide range of arctic and subarctic ecosystems, unaltered landforms, and native flora and fauna. The Refuge is a place of free-functioning ecological and evolutionary processes, exhibiting a high degree of biological integrity, natural diversity, and environmental health. Alternative E best represents the Service's commitment to implement the Arctic Refuge's vision statement:

This untamed arctic landscape continues to sustain the ecological diversity and special values that inspired the Refuge's establishment. Natural processes continue and traditional cultures thrive with the seasons and changing times; physical and mental challenges test our bodies, minds and spirit; and we honor the land, the wildlife and the native people with respect and restraint. Through responsible stewardship this vast wilderness is passed on, undiminished, to future generations.

Selection of this Alternative recognizes that Arctic Refuge exemplifies the characteristics of wilderness. Embodying tangible and intangible values, the Refuge's wilderness characteristics include natural conditions, natural quiet, wild character, and exceptional opportunities for solitude, adventure, and immersion in the natural world.

Decision:

Arctic Refuge is nationally recognized for its unique and wide range of arctic and subarctic ecosystems that retain a high degree of biological integrity and natural diversity. The Refuge exemplifies the idea of wilderness embodying tangible and intangible values including natural conditions, natural quiet, wild character, and exceptional opportunities for solitude, adventure, and immersion in the natural world. The Refuge represents deep-rooted American cultural values about frontiers, open spaces, and wilderness. It is one of the finest representations of the wilderness that helped shape our national character and identity.

In making the decision, we reviewed and carefully considered the relevant issues, concerns, and public input received throughout the planning process, comments on the draft and final Revised CCP/EIS, and other factors including refuge purposes and relevant laws, regulations, and policies.

Alternative E best accomplishes refuge purposes; best achieves the mission of the National Wildlife Refuge System; and best meets the visions and goals identified in the plan. It best provides long-term protection of fish and wildlife habitat while providing recreational and other opportunities in a natural environment while minimizing and preventing human-caused change.

Dated: April 3, 2015.
Geoffrey L. Haskett,
Regional Director, U.S. Fish and Wildlife Service, Anchorage, Alaska.

[FR Doc. 2015-08526 Filed 4-10-15; 8:45 am]

BILLING CODE 4310-55-P